DEPARTMENT OF COMMERCE

National Oceanic and Atmospheric Administration

U.S. Integrated Ocean Observing System (IOOS®) Advisory Committee

AGENCY: National Ocean Service, National Oceanic and Atmospheric Administration (NOAA), Department of Commerce.

ACTION: Notice of Open Meeting (via webinar and teleconference).

SUMMARY: Notice is hereby given of a virtual meeting of the U. S. Integrated Ocean Observing System (IOOS®) Advisory Committee (Committee).

Dates and Times: The public meeting will be held on Tuesday September 22, 2015, from 12:00 p.m. to 3:00 p.m. EDT. These times and the agenda topics described below are subject to change. Refer to the Web page listed below for the most up-to-date meeting agenda.

FOR FURTHER INFORMATION CONTACT: Jessica Snowden, Designated Federal Official, U.S. IOOS Advisory Committee, U.S. IOOS Program, 1315 East-West Highway, 2nd Floor, Silver Spring, MD 20910, Silver Spring, MD 20910; Phone 301-713-3070 x 141; Fax 301-713-3281; Email Jessica.snowden@noaa.gov or visit the U.S. IOOS Advisory Committee Web site at http://www.ioos.noaa.gov/advisorycommittee.

SUPPLEMENTARY INFORMATION: The IOOS Advisory Committee meeting will be held via webinar and teleconference. Members of the public who wish to participate in the meeting must register in advance by September 18, 2015. Please register by contacting Jessica Snowden, Designated Federal Official at email: Jessica.snowden@noaa.gov or tel (301) 713-3070 x 141. Webinar and teleconference information will be provided to registrants prior to the meeting. While the meeting will be open to the public, webinar and teleconference capacity may be limited.

The Committee was established by the NOAA Administrator as directed by Section 12304 of the Integrated Coastal and Ocean Observation System Act, part of the Omnibus Public Land Management Act of 2009 (Pub. L. 111-11). The Committee advises the NOAA Administrator and the Interagency Ocean Observation Committee (IOOC) on matters related to the responsibilities and authorities set forth in section 12302 of the Integrated Coastal and Ocean Observation System Act of 2009 and other appropriate matters as the Under Secretary refers to the Committee for review and advice.

The Committee will provide advice on:

(a) Administration, operation, management, and maintenance of the System;

(b) expansion and periodic modernization and upgrade of technology components of the System;

(c) identification of end-user communities, their needs for information provided by the System, and the System's effectiveness in dissemination information to end-user communities and to the general public; and

(d) any other purpose identified by the Under Secretary of Commerce for Oceans and Atmosphere or the Interagency Ocean Observation Committee.

The meeting will be open to public participation with a 15-minute public comment period on September 22, 2015, from 2:45 p.m. to 3:00 p.m. (check agenda on Web site to confirm time.) The Committee expects that public statements presented at its meetings will not be repetitive of previously submitted verbal or written statements. In general, each individual or group making a verbal presentation will be limited to a total time of three (3) minutes. Written comments should be received by the Designated Federal Official by September 15, 2015 to provide sufficient time for Committee review. Written comments received after September 15, 2015, will be distributed to the Committee, but may not be reviewed prior to the meeting date.

Matters To Be Considered: The meeting will focus on review of draft recommendations including ICOOS Act reauthorization, regional IOOS certification, and addressing the need for resilient communities. The agenda is subject to change. The latest version will be posted at http://www.ioos.noaa.gov/advisorycommittee.

Dated: August 28, 2015.
Zdenka Willis,
Director, U.S. Integrated Ocean Observing System Office.

[FR Doc. 2015-21976 Filed 9-3-15; 8:45 am]

BILLING CODE 3510-22-P